ENVIRONMENTAL PROTECTION AGENCY

[FRL-7560-6]

Stallings Salvage Superfund Site, Monroe, North Carolina; Notice of Proposed Settlement

AGENCY: Environmental Protection Agency (EPA).

ACTION: Notice of proposed settlement.

SUMMARY: The United States Environmental Protection Agency is proposing to enter into a settlement with the Estate of Paul Stallings, by and through its Executor, Morris Stallings, as Executor of the Estate of Paul Stallings; Morris Stallings as attorney in fact for Paul Stallings under the durable power of attorney dated June 2, 1994; and Morris Stallings for recovery of past response costs pursuant to section 122(h)(1) of the Comprehensive Environmental Response, Compensation, and Liability Act (CERCLA), 42 U.S.C. 9622(h)(1) concerning the Stallings Salvage Superfund Site located in Monroe, Union County, North Carolina. EPA will consider public comments on the proposed settlement until October 17, 2003. EPA may withdraw from or modify the proposed settlement should such comments disclose facts or considerations which indicate the proposed settlement is inappropriate, improper or inadequate. Copies of the proposed settlement are available from: Ms. Paula V. Batchelor, U.S. EPA, Region 4, Waste Management Divison, 61 Forsyth Street, SW., Atlanta, Georgia 30303, (404) 562-8887.

Written comments may be submitted to Ms. Batchelor within 30 calendar days of the date of this publication.

Dated: September 2, 2003.
Rosalind Brown,
Chief, Superfund Enforcement & Information Mgmt Branch, Waste Management Division.

[FR Doc. 03-23746 Filed 9-16-03; 8:45 am]

BILLING CODE 6560-50-P